DEPARTMENT OF HEALTH AND HUMAN SERVICES

Indian Health Service

National Indian Health Board

Correction

In notice document 04-5305 beginning on page 11447 in the issue of Wednesday, March 10, 2004, make the following corrections:

1. On page 11448, in the first column, in the 11th line, “$227,00.00” should read “$227,000.00”.

2. On the same page, in the second column, under the heading “for further information contact”, in the seventh line, “Tyan” should read “Ryan”.

[FR Doc. C4-5305 Filed 3-18-04; 8:45 am]

BILLING CODE 1505-01-D

LIBRARY OF CONGRESS

Copyright Office

37 CFR Part 270

[Docket No. RM 2002-1E]

Notice and Recordkeeping for Use of Sound Recordings Under Statutory License

Correction

In rule document 04-5404 beginning on page 11515 in the issue of Thursday, March 11, 2004, make the following correction:

§ 270.1 [Corrected]

On page 11528, in the first column, in 270.1, in paragraph (e)(2), in the second line from the bottom, “igital” should read “digital”.

[FR Doc. C4-5404 Filed 3-18-04; 8:45 am]

BILLING CODE 1505-01-D

DEPARTMENT OF TRANSPORTATION

Federal Aviation Administration

14 CFR Part 39

[Docket No. 2000-CE-09-AD; Amendment 39-13496; AD 2001-13-18 R1]

RIN 2120-AA64

Airworthiness Directives; Raytheon Aircraft Corporation Beech Models 45 (YT-34), A45 (T-34A, B-45), and D45 (T-34B) Airplanes

Correction

In rule document 04-4372 beginning on page 9526 in the issue of Monday, March 1, 2004, make the following correction:

§ 39.13 [Corrected]

On page 9528, in 39.13, the table is corrected in part to read as follows:

Action | When | In accordance with
* * | * * * | * *
(2) Modify each airspeed indicator glass by accomplishing the following: | All actions required within 10 hours time-in-service (TIS) after July 9, 1999 (the effective date of AD 99-12-02), unless already accomplished | Not Applicable.
(i) Place a red radial line on each indicator glass at 175 miles per hour (mph) (152 knots).
(ii) Place a white slippage index mark between each airspeed indicator glass and case to visually verify that the glass has not rotated.
(3) Mark the outside surface of the “g” meters with lines of approximately 1/16-inch by 3/16-inch, as follows: | All actions required within 10 hours time-in-service (TIS) after July 9, 1999 (the effective date of AD 99-12-02), unless already accomplished | Not Applicable.
* * | * * * | * *

[FR Doc. C4-4372 Filed 3-18-04; 8:45 am]

BILLING CODE 1505-01-D